DEPARTMENT OF STATE

[Public Notice: 11664]

30-Day Notice of Proposed Information Collection: Three (3) Passport Services Information Collections—Application for a U.S. Passport; U.S. Passport Renewal Application for Eligible Individuals; and Application for a U.S. Passport: Corrections, Name Change Within 1 Year of Passport Issuance, and Limited Passport Holders

ACTION: Notice of request for public comment and submission to OMB of proposed collection of information.

SUMMARY: The Department of State is seeking Office of Management and Budget (OMB) approval for the information collection described below. In accordance with the Paperwork Reduction Act of 1995. We are requesting comments on this collection from all interested individuals and organizations. The purpose of this notice is to allow 30 days for public comment preceding submission of the collection to OMB.

DATES: The Department will accept comments from the public up to March 28, 2022.

ADDRESSES: Written comments and recommendations for the proposed information collection should be sent within 30 days of publication of this notice to www.reginfo.gov/public/do/PRAMain. Find this information collection by selecting “Currently under 30-day Review—Open for Public Comments” or by using the search function. Direct requests for additional information regarding the collection listed in this notice, including requests for copies of the proposed collection instrument, and supporting documents to Passport-Form-Comments@State.gov. You must include the DS form number (if applicable), information collection title, and the OMB control numbers in the email subject line.

SUPPLEMENTARY INFORMATION:

• Title of Information Collection: Application for a U.S. Passport.

• OMB Control Number: 1405-0004.

• Type of Request: Revision of a Currently Approved Collection.

• Originating Office: Bureau of Consular Affairs, Passport Services, Office of Program Management and Operational Support (CA/PPT/S/PMO).

• Form Number: DS-11.

• Respondents: Individuals or Households.

• Estimated Number of Respondents: 9,217,667.

• Estimated Number of Responses: 9,217,667.

• Average Time per Response: 85 minutes.

• Total Estimated Burden Time: 13,058,362 hours.

• Frequency: On occasion.

• Obligation to Respond: Required to Obtain or Retain a Benefit.

• Title of Information Collection: U.S. Passport Renewal Application for Eligible Individuals.

• OMB Control Number: 1405-0020.

• Type of Request: Revision of a Currently Approved Collection.

• Originating Office: Bureau of Consular Affairs, Passport Services, Office of Program Management and Operational Support (CA/PPT/S/PMO).

• Form Number: DS-0082.

• Respondents: Individuals or Households.

• Estimated Number of Respondents: 6,176,883.

• Estimated Number of Responses: 6,176,883.

• Average Time per Response: 40 minutes.

• Total Estimated Burden Time: 4,117,922 hours per year.

• Frequency: On occasion.

• Obligation to Respond: Required to Obtain a Benefit.

• Title of Information Collection: Application for a U.S. Passport: Corrections, Name Change Within 1 Year of Passport Issuance, And Limited Passport Holders.

• OMB Control Number: 1405-0160.

• Type of Request: Revision of a Currently Approved Collection.

• Originating Office: Bureau of Consular Affairs, Passport Services, Office of Program Management and Operational Support (CA/PPT/S/PMO).

• Form Number: DS-5504.

• Respondents: Individuals or Households.

• Estimated Number of Respondents: 138,000.

• Estimated Number of Responses: 138,000.

• Average Time per Response: 40 minutes.

• Total Estimated Burden Time: 92,000 hours.

• Frequency: On occasion.

• Obligation to Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

A U.S. passport (book and/or card format) is a travel document attesting to one's identity and U.S. nationality pursuant to authorities granted to the Secretary of State by 22 U.S.C. 211a et seq., and Executive Order (E.O.) 11295 (August 5, 1966) for the issuance of passports to U.S. nationals. The issuance of U.S. passports requires the determination of identity, nationality, and entitlement with reference to the provisions of Title III of the Immigration and Nationality Act (INA) (8 U.S.C. 1401-1504), the 14th Amendment to the Constitution of the United States, other applicable treaties, laws, and implementing regulations at 22 CFR parts 50 and 51. The primary purpose for soliciting the information is to establish nationality, identity, and entitlement to the issuance of a U.S. passport, and to properly administer and enforce the laws pertaining to the issuance thereof.

• 1405-0004, DS-11, Application for a U.S. Passport: The form is used by eligible citizens and non-citizen nationals (hereinafter, collectively referred to as “nationals”) of the United States who need to apply for a U.S. passport. The specific regulations pertaining to the Application for a U.S. Passport are at 22 CFR 51.20 through 51.28.

• 1405-0020, DS-82, The U.S. Passport Renewal Application for Eligible Individuals: The form is used by current U.S. passport holders who are eligible to renew their current or recently expired U.S. passport. The specific regulations pertaining to the Application for a U.S. Passport by Mail (i.e., the U.S. Passport Renewal Application for Eligible Individuals) are 22 CFR 51.20 and 51.21.

• 1405-0160, DS-5504, The Application for a U.S. Passport: Corrections, Name Change Within 1 Year of Passport Issuance, And Limited Passport Holders: The form is used by current U.S. passport holders who are eligible to re-apply for a passport, at no charge if: (a) The passport holder's name has changed within the first year of the issuance of the passport; (b) the passport holder's descriptive information on the data page of the passport is incorrect; (c) the passport holder wishes to obtain a fully valid passport after obtaining a full-fee passport with a limited validity of two years or less. The regulations pertaining to the form are at 22 CFR parts 50 and 51.

The forms have been amended based on a change in Department policy. The Department's new policy permits passport applicants to select the gender marker on their passport without presenting medical documentation. This policy change includes updating forms to add a third gender marker, “X,” for applicants identifying as unspecified or another gender identity (in addition to the existing “M” and “F” gender markers).

Methodology

Passport Services collects information from U.S. citizens and non-citizen nationals when they complete and submit the forms. Passport applicants can either download the forms from the internet or obtain one from an Acceptance Facility/Passport Agency or U.S. embassy/consulate abroad. The DS-11 must be completed and executed at an acceptance facility, passport agency, or U.S. embassy/consulate (if abroad), and submitted with evidence of citizenship and identity. The DS-82 and DS-5504 must be completed, signed, and submitted by mail or in person at an acceptance facility, passport agency, or U.S. embassy/consulate (if abroad). (In July 2021, OMB approved a non-substantial change to add the DS-82 Online Passport Renewal (OPR) which will allow customers to renew their U.S. passport electronically in the near future).

Kevin E. Bryant,
Deputy Director, Office of Directives Management, Department of State.

[FR Doc. 2022-03951 Filed 2-22-22; 11:15 am]

BILLING CODE 4710-06-P